DEPARTMENT OF ENERGY

Federal Energy Regulatory Commission

Combined Notice of Filings #2

Take notice that the Commission received the following electric rate filings:

Docket Numbers: ER11-1850-002; ER11-1847-002; ER11-1846-002; ER11-2509-004; ER11-1848-002; ER11-2598-005; ER11-2516-003.

Applicants: Direct Energy Services, LLC, Direct Energy Marketing Inc., Gateway Energy Services Corporation, Direct Energy Business, LLC, Energetix, Inc., NYSEG Solutions, Inc., Energy America, LLC.

Description: Notice of Change in Status of Direct Energy Business, LLC, et al.

Filed Date: 8/30/12.

Accession Number: 20120830-5064.

Comments Due: 5 p.m. ET 9/20/12.

Docket Numbers: ER12-1914-001.

Applicants: ISO New England Inc.

Description: Compliance with Order in Docket No. ER12-1914-000 to be effective 8/1/2012.

Filed Date: 8/30/12.

Accession Number: 20120830-5048.

Comments Due: 5 p.m. ET 9/20/12.

Docket Numbers: ER12-2161-001.

Applicants: Duke Energy Carolinas, LLC.

Description: Compliance Filing in Dkt. No. ER12-2161 to be effective 7/2/2012.

Filed Date: 8/30/12.

Accession Number: 20120830-5087.

Comments Due: 5 p.m. ET 9/20/12.

Docket Numbers: ER12-2185-001.

Applicants: Wisconsin Electric Power Company.

Description: Rate Schedule FERC No. 90 revisions compliance filing to be effective 9/1/2012.

Filed Date: 8/30/12.

Accession Number: 20120830-5088.

Comments Due: 5 p.m. ET 9/20/12.

Docket Numbers: ER12-2548-000.

Applicants: Southern California Edison Company.

Description: Amendment to WDAT Service Agreement with SCE-RAP for CREST to be effective 8/1/2012.

Filed Date: 8/30/12.

Accession Number: 20120830-5067.

Comments Due: 5 p.m. ET 9/20/12.

Docket Numbers: ER12-2549-000.

Applicants: Southern California Edison Company.

Description: SGIA and Service Agreement SCE-Samsung C&T America, Commercial Solar RTS 3 Proj. to be effective 10/30/2012.

Filed Date: 8/30/12.

Accession Number: 20120830-5068.

Comments Due: 5 p.m. ET 9/20/12.

Docket Numbers: ER12-2550-000.

Applicants: PJM Interconnection, L.L.C.

Description: Original Service Agreement No. 3389; Queue No. X3-081 to be effective 8/3/2012.

Filed Date: 8/30/12.

Accession Number: 20120830-5097.

Comments Due: 5 p.m. ET 9/20/12.

Docket Numbers: ER12-2551-000.

Applicants: ITC Midwest LLC.

Description: Filing of Joint Use Agreement to be effective 10/29/2012.

Filed Date: 8/30/12.

Accession Number: 20120830-5106.

Comments Due: 5 p.m. ET 9/20/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 30, 2012.
Nathaniel J. Davis, Sr.,
Deputy Secretary.

[FR Doc. 2012-22684 Filed 9-13-12; 8:45 am]

BILLING CODE 6717-01-P